ENVIRONMENTAL PROTECTION AGENCY

[OPP-2003-0041; FRL-7292-7]

Tribal Pesticide Program Council; Notice of Public Meeting

AGENCY: Environmental Protection Agency (EPA).

ACTION: Notice.

SUMMARY: The Tribal Pesticide Program Council (TPPC) will hold a 2-day meeting, on March 13 and 14, 2003. This notice announces the location and times for the meeting and sets forth the tentative agenda topics.

DATES: The meeting will be held on Thursday, March 13, 2003, from 9 a.m. to 5 p.m., including a closed session from 4:30 to 5 p.m. and Friday March 14, 2003, from 9 a.m. to 5 p.m., including two closed sessions from 10:30 a.m. to 10:45 a.m. and 4 p.m. to 5 p.m.

ADDRESSES: The meeting will be held at the Doubletree Hotel - 300 Army Navy Drive, Arlington, Crystal City, VA.

FOR FURTHER INFORMATION CONTACT: Georgia McDuffie, Field and External Affairs Division (7506C), Office of Pesticide Programs, Environmental Protection Agency, 1200 Pennsylvania Ave., NW., Washington, DC 20460-0001; telephone number: (703) 605-0195; fax number: (703) 308-1850; e-mail address: mcduffie.georgia@epa.gov.

Lillian Wilmore, TPPC Facilitator, P.O. Box 470829, Brookline Village, MA 02447-0829; telephone number: (617) 232-5742; fax (617) 277-1656; e-mail address: naecology@aol.com.

SUPPLEMENTARY INFORMATION:

I. General Information

A. Does this Action Apply to Me?

You may be potentially affected by this action if you are interested in TPPC's information exchange relationship with EPA regarding important issues related to human health, environmental exposure to pesticides, and insight into EPA's decisionmaking process. All parties are invited and encouraged to attend the meetings and participate as appropriate.

This action is directed to the public in general, and may be of particular interest to those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2003-0041. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Tentative Agenda

This unit provides tentative agenda topics for the 2-day meeting.

1. TPPC state of the council report.

2. Presentation questions and answers by EPA Office of Pesticide Programs and by EPA Office of Pesticide Programs, Field and External Affairs Division.

3. Reports from Working Groups and TPPC participation in other meetings: Tribal Strategy and Forum on State and Tribal Toxic Actions (FOSTTA), Pesticide Program Dialogue Committee, Western Regional Pesticide Conference, Certification and Training Advisory Group, and Worker Protection.

4. Tribal caucus.

5. Reports from other organizations: State FIFRA Issues Research and Evaluation Group, American Indian Environmental Office, Tribal Operations Committee, Regional Tribal Operations Committee, Intertribal Agricultural Council, and National Tribal Environmental Council, Intertribal Agricultural Council, and Tribal Air Group.

6. Videos; EPA and Indian Country; Building Pesticide and Toxic Programs in Indian Country and Native American Grave Protection Repatriation Act (NAGPRA) issues; tainted legacy.

7. Report on Tribal Medicine Project.

8. EPA Office of Enforcement and Compliance Assurance (OECA) related issues and continuing issues reference data collections issues—Form 5700-33H; inspector credentials.

9. EPA Office of Prevention, Pesticides and Toxic Substances (OPPTS) Tribal strategy—update.

10. Update—FIFRA section 18s and section 24c issues (including Shoalwater Bay Tribe issues).

11. Tribal issues raised; Quality Assurance Project Plan (QAPP) issues.

12. Updates from the sub-regional lead officer.

13. Report from the Working Group—Tribal Traditional Lifeways (subsistence issues).

14. Update on the lifeline project.

15. Update on the West Nile Virus.

16. Announcement of requests for proposal—National Environmental Exchange Network Grant; other funding announcements.

17. Water Quality and Pesticides Management; United States Geological Survey (USGS) projects on future training efforts.

18. FIFRA and the Clean Water Act; the talent decision.

19. Update and overview—Biopesticides (Bt issues).

List of Subjects

Environmental protection, Pesticides and pests.

Dated: February 4, 2003.
Jay S. Ellenberger,
Associate Director, Field and External Affairs Division, Office of Pesticide Programs.

[FR Doc. 03-3412 Filed 2-11-03; 8:45 am]

BILLING CODE 6560-50-S